DEPARTMENT OF THE INTERIOR

U.S. Geological Survey

[USGS-GX11GG009950000]

Scientific Earthquake Studies Advisory Committee

AGENCY: U.S. Geological Survey.

ACTION: Notice of Meeting.

SUMMARY: Pursuant to Public Law 106-503, the Scientific Earthquake Studies Advisory Committee (SESAC) will hold its next meeting at the campus of the California Institute of Technology (Caltech), President's Board Room, Pasadena, California 91126. The Committee is comprised of members from academia, industry, and State government. The Committee shall advise the Director of the U.S. Geological Survey (USGS) on matters relating to the USGS's participation in the National Earthquake Hazards Reduction Program.

The focus of the meeting will be a review of the USGS Earthquake Hazard Program's activities in southern California, including the multi-hazards demonstration project and earthquake early warning prototype development. The committee will also discuss USGS monitoring activities, international work, and USGS role within the four-agency National Earthquake Hazards Reduction Program.

Although meetings of the Scientific Earthquake Studies Advisory Committee are open to the public, seating may be limited due to room capacity.

DATES: The meeting will be held November 4, 2010, beginning at 1 p.m. and ending approximately 5 p.m.; November 5, 2010, commencing approximately 9 a.m. and adjourning at 4 p.m.

Contact: Dr. David Applegate, U.S. Geological Survey, MS 905, 12201 Sunrise Valley Drive, Reston, Virginia 20192, (703) 648-6714, applegate@usgs.gov.

Dated: October 20, 2010.
William S. Leith,
Acting Associate Director for Natural Hazards.

[FR Doc. 2010-27248 Filed 10-27-10; 8:45 am]

BILLING CODE 4311-AM-P